ENVIRONMENTAL PROTECTION AGENCY

[FRL-6579-4]

National Drinking Water Advisory Council; Contaminant Candidate List and 6-Year Review of Existing Regulations Working Group; Notice of Open Meeting

AGENCY: Environmental Protection Agency (EPA).

ACTION: Notice.

SUMMARY: Under section 10(a)(2) of Public Law 92-423, “The Federal Advisory Committee Act,” notice is hereby given that a meeting of the Contaminant Candidate List (CCL) Regulatory Determination and 6-Year Review of Existing Regulation Working Group of the National Drinking Water Advisory Council established under the Safe Drinking Water Act, as amended (42 U.S.C. S300f et seq.), will be held on May 2, 2000 from 1 pm until 5 pm ET (approximately), at 401 M Street SW., Washington, DC 20460, Conference Room 1209, East Tower. The meeting is open to the public to observe and statements will be taken from the public as time allows. Seating is limited.

This is the third and final meeting to address regulatory determination from the CCL. The purpose of the meeting is to continue discussions on the development of recommended protocols for regulatory determinations for CCL chemical and microbial contaminants, finalize the draft framework developed by the EPA at the first meeting, provide specific recommendations for analyzing and presenting the available scientific data, and recommend methods to identify and document the judgments made to arrive at a conclusion. For CCL regulatory determinations, the Working Group will develop protocols for both chemical and microbial contaminants that will be robust enough to apply to contaminants on the current and future CCLs. Due to the statutory deadlines mandated by the SDWA's 1996 Amendments, the Working Group will finalize the protocol for CCL regulatory determinations before beginning work on the protocol(s) for the 6-year review of existing NPDWRs.

The working group members have also been asked to draft proposed position papers for deliberation by the advisory council, and provide advice and recommendations to the full National Drinking Water Advisory Council.

FOR FURTHER INFORMATION CONTACT: April McLaughlin, Designated Federal Officer, Contaminant Candidate List and Regulatory Determination and 6-Year Review of Existing Regulations Working Group, U.S. EPA (4607), Office of Ground Water and Drinking Water, 401 M Street SW., Washington, DC 20460. The telephone number is 202-260-5524, fax 202-401-6135, and e-mail mclaughlin.april@epa.gov.

Dated: April 10, 2000.
Janet Pawlukiewicz,
Acting Designated Federal Officer National Drinking Water Advisory Council.

[FR Doc. 00-9386 Filed 4-14-00; 8:45 am]

BILLING CODE 6560-50-U